DEPARTMENT OF DEFENSE

Department of the Navy

Notice of Intent To Prepare an Environmental Impact Statement for Military Training Activities at the Naval Weapons Systems Training Facility Boardman, OR, and To Announce Public Scoping Meetings

AGENCY: Department of the Navy, DoD.

ACTION: Notice.

SUMMARY: Pursuant to section 102(2)(c) of the National Environmental Policy Act of 1969, as implemented by the Council on Environmental Quality regulations (40 CFR Parts 1500-1508), the Department of the Navy (DoN) announces its intent to prepare an Environmental Impact Statement (EIS) to evaluate the potential environmental effects of continuing training activities on and increasing usage of the Naval Weapons Systems Training Facility (NWSTF) Boardman, Oregon.

DATES AND ADDRESSES: Two public scoping meetings will be held to receive oral and/or written comments on environmental concerns that should be addressed in the EIS. The public scoping meetings will be held on the following dates and times, and at the following locations:

1. Wednesday, October 27, 2010, 5 p.m.-8 p.m., at Port of Morrow Conference Center, Riverfront Room, 2 Marine Drive, Boardman, OR 97818;

2. Thursday, October 28, 2010, 5 p.m.-8 p.m., at Hermiston Conference Center, Rotary Room, 415 S. Highway 395, Hermiston, OR 97838.

Each scoping meeting will consist of an informal, open house session with information stations staffed by DoN and National Guard representatives. Details of the meeting locations and times will be announced in local newspapers. Additional information concerning meeting times will be available on the EIS Web page located at: http://www.NWSTFBoardmanEIS.com.

FOR FURTHER INFORMATION CONTACT: Mrs. Amy Burt, Naval Facilities Engineering Command, Northwest, 1101 Tautog Circle, Suite 203, Silverdale, Washington 98315-1101, Attn: NWSTF Boardman Project Manager, Code EV1.AB.

SUPPLEMENTARY INFORMATION: The DoN's proposed action includes range enhancements and changes to training activities, capacities, and facilities as they currently exist on NWSTF Boardman. The Proposed Action would result in selectively focused but critical range enhancements and increases in DoN and Oregon National Guard training that are necessary to ensure NWSTF Boardman supports military training and readiness objectives.

The overall strategic mission of NWSTF Boardman is to support naval and joint services operational readiness by providing a suitable range within the geographical vicinity for Commander, U.S. Pacific Fleet and Oregon National Guard forces in the northwest.

The EIS study area consists of NWSTF Boardman airspace, Military Operating Area and Restricted Airspace totaling approximately 500 square miles, and 47,432 acres of land within the boundaries of NWSTF Boardman. NWSTF Boardman is rectangular shaped oriented from north to south, approximately 6 miles by 12 miles in size, and is situated 2.5 miles south of the town of Boardman and the Columbia River, and southwest of Umatilla, Oregon.

The purpose of the Proposed Action is to: (1) Ensure that NWSTF Boardman continues to support critical military training activities in a realistic and cost-effective manner; (2) Achieve and maintain military readiness using NWSTF Boardman to support and conduct current, emerging, and future training and research, development, test and evaluation (RDT&E) activities; and (3) Upgrade and modernize NWSTF Boardman's existing capabilities to address shortfalls in available training range capabilities in the Pacific Northwest.

The Proposed Action is needed to provide a training environment consisting of range areas, facilities and instrumentation with the capacity and capabilities to fully support required training tasks for military units. In this regard, NWSTF Boardman furthers the military's execution of its roles and responsibilities under United States Code (U.S.C.) Title 10 (federal military) and U.S.C. Title 32 (State National Guard). To comply with its Title 10 and 32 mandates, the military needs to maintain current levels of military readiness by improving training at NWSTF Boardman, accommodate possible future increases in operational training and force structure changes, and maintain the long-term viability of NWSTF Boardman as a military training and testing area.

Under the No Action Alternative, training activities and major range events would continue at current levels. The DoN and National Guard training activities currently conducted on NWSTF Boardman, presented as the No Action Alternative, have been ongoing at present levels and frequencies for approximately 10 years.

Under Alternative 1, NWSTF Boardman would support an increase in training activities to include force structure changes associated with the introduction of new weapon systems, vehicles, and aircraft, in addition to accommodating training activities currently conducted on the range. Alternative 1 would also include the implementation of range enhancements to allow NWSTF Boardman to comply with DoN and National Guard requirements to enable military personnel to qualify on weapon systems. These required range enhancements could include the construction of a Multi-Purpose Machine Gun Range, a Digital Multi-Purpose Training Range, a Convoy Live Fire training range, a Demolition Training Range, construction of a joint range administration/Unmanned Aerial System (UAS) maintenance building, UAS landing strip, and the opening of a second target area for air to ground bombing exercises.

Alternative 2 consists of all elements of Alternative 1 plus the addition of a third target area, a helicopter landing zone, a second Convoy Live Fire range, four mortar pads, and a separate joint-use administrative facility. Alternative 2 also includes an increase in training activities associated with these additional range enhancements.

Environmental issues that will be addressed in the EIS, as applicable, include but are not limited to the following: Air quality, airspace, biological resources, including threatened and endangered species, cultural resources, water resources, geology and soils, hazardous materials and waste, health and safety, noise, socioeconomics, and transportation.

The DoN is initiating the scoping process to identify community concerns and local issues that will be addressed in the EIS. Federal, state and local agencies, Federally Recognized Native American Tribes, the public, and all interested persons are encouraged to provide oral, written, or electronic comments to the DoN to identify specific environmental issues or topics of environmental concern that the commenter believes the DoN should consider. All comments, electronic, written or provided orally at the scoping meetings, will receive the same consideration during EIS preparation.

Written comments on the scope of the EIS should be postmarked no later than November 15, 2010. Comments may be mailed to Mrs. Amy Burt, Naval Facilities Engineering Command, Northwest, 1101 Tautog Circle Suite, 203, Silverdale, Washington 98315-1101, Attn: NWSTF Boardman EIS Project Manager, Code EV1.AB. Comments may also be submitted on the project Web site, http://www.NWSTFBoardmanEIS.com.

Dated: September 29, 2010.
D.J. Werner,
Lieutenant Commander, Office of the Judge Advocate General, U.S. Navy, Federal Register Liaison Officer.

[FR Doc. 2010-24910 Filed 10-4-10; 8:45 am]

BILLING CODE 3810-FF-P